ENVIRONMENTAL PROTECTION AGENCY

[FRL-7041-5]

Proposed Settlement Agreement

AGENCY: Environmental Protection Agency.

ACTION: Notice of proposed settlement; request for public comment.

SUMMARY: In accordance with section 113(g) of the Clean Air Act, as amended, 42 U.S.C. 7413(g), (the “Act”), notice is hereby given of a proposed settlement agreement in American Forest & Paper Association, Inc., v. EPA, No. 00-1218 (D.C. Cir.) This lawsuit, filed under section 307(b)(1) of the Act, concerns EPA's Memorandum to its Regional Offices regarding New Source Performance Standard Subpart Kb Applicability to Storage Vessels Used in the Pulp and Paper Industry. The proposed settlement agreement provides that EPA shall propose and take final action on amendments to 40 CFR part 60, Subpart Kb, §§ 60.110b et seq. (Subpart Kb), to exclude from its applicability storage vessels that have a capacity less than 20,000 gallons or contain a liquid with a maximum true vapor pressure below 3.5kPa. The proposed settlement agreement was entered into on July 26, 2001.

DATES: Written comments on the proposed settlement agreements must be received by September 24, 2001.

ADDRESSES: Written comments should be sent to David J. Dickinson, Air and Radiation Law Office (2344A), Office of General Counsel, U.S. Environmental Protection Agency, 1200 Pennsylvania Avenue, NW., Washington, DC 20460. Copies of the proposed settlement agreement are available from Phyllis J. Cochran, (202) 564-7606.

SUPPLEMENTARY INFORMATION: In 1987, EPA promulgated a final rule, amended thereafter, establishing standards of performance for volatile organic liquid storage vessels (including petroleum liquid storage vessels) for which construction, reconstruction, or modification commenced after July 23, 1984 (Subpart Kb). On March 27, 2000, EPA released a document regarding the applicability of this regulation to storage vessels used in the pulp and paper industry. On May 26, 2000, the American Forest & Paper Association, Inc. filed a petition for review with the DC Circuit Court of Appeals regarding EPA's March 27, 2000 document. Under the terms of the tentative settlement agreement noticed herein, EPA has agreed to propose to amend Subpart Kb to exclude from its applicability storage vessels that have a capacity less than 20,000 gallons or contain a liquid with a maximum true vapor pressure below 3.5 kPa and to take final action on that proposal within a reasonable time.

For a period of thirty (30) days following the date of publication of this notice, EPA will receive written comments relating to the proposed settlement agreement from persons who were not named as parties to the litigation in question. EPA or the Department of Justice may withdraw or withhold consent to the proposed settlement agreement if the comments disclose facts or considerations that indicate that such consent is inappropriate, improper, inadequate, or inconsistent with the requirements of the Act. Unless EPA or the Department of Justice determine, following the comment period, that consent is inappropriate, the settlement agreement will then be executed by the parties.

Dated: August 14, 2001.
Alan W. Eckert,
Associate General Counsel.

[FR Doc. 01-21339 Filed 8-22-01; 8:45 am]

BILLING CODE 6560-50-P